DEPARTMENT OF COMMERCE

International Trade Administration

A-570-827

Notice of Amended Final Results in Accordance With Court Decision: Antidumping Duty Administrative Review of Sebacic Acid from the People's Republic of China

AGENCY: Import Administration, International Trade Administration, Department of Commerce.

SUMMARY: On September 18, 2006, the United States Court of International Trade (“CIT”) affirmed the redetermination of the Department of Commerce (“the Department”) in the antidumping duty (“AD”) administrative review of sebacic acid from the People's Republic of China (“PRC”). See Guangdong Chemicals Import and Export Corporation v. the United States, Court No. 05-00023; Slip-Op 06-142 (CIT 2006); see also Department's Final Results of Redetermination Pursuant to Court Order: Guangdong Chemicals Import and Export Corporation v. United States (dated May 3, 2006). As there is now a final and conclusive court decision in this case, the Department is amending the final results of this administrative review.

EFFECTIVE DATE: December 15, 2006.

FOR FURTHER INFORMATION CONTACT: Jennifer Moats at (202) 482-5047, AD/CVD Operations, Office 8, Import Administration, International Trade Administration, U.S. Department of Commerce, 14th Street and Constitution Avenue, NW, Washington, DC 20230.

SUPPLEMENTARY INFORMATION: On December 16, 2004, the Department published in the Federal Register the final results of the 2002-2003 administrative review of the antidumping duty order on sebacic acid from the PRC. See Sebacic Acid From the People's Republic of China: Final Results Antidumping Duty Administrative Review, 69 FR 75303 (“Final Results”). In that review, the Department relied on Monthly Statistics of the Foreign Trade of India (MSFTI) for the period of review (“POR”) to value sebacic acid, a surrogate value used to allocate the respondent's reported inputs between the production of the subject merchandise, sebacic acid, and non-subject merchandise. Additionally, in that review the Department deducted the by-product offset from normal value.

The respondent in the 2002-2003 administrative review of the antidumping duty order on sebacic acid from the PRC filed a complaint with the CIT contesting both the surrogate value assigned to sebacic acid and the location of the deduction of the by-product offset in the Final Results. The Department filed a motion with the CIT for a voluntary remand with respect to the application of the by-product offset. On January 25, 2006, the CIT remanded this case to the Department to re-evaluate the surrogate value selected to value sebacic acid and granted the Department's request for a voluntary remand with respect to the application of the by-product offset. On May 3, 2006, the Department issued its final results of remand redetermination on the surrogate value selected to value sebacic acid and its voluntary redetermination to further explain its application of the by-product offset.

In its redetermination, the Department concluded that it was appropriate to value sebacic acid using MSFTI data after removing aberrational amounts (“MSFTI data”), rather than the Chemical Weekly ChemImpEx database (“ChemImpEx”) as suggested by the respondent. The Department reached this conclusion because, unlike the ChemImpEx data, the MSFTI data is official government data and had a greater variety of data points. On September 18, 2006, the CIT affirmed the Department's remand redetermination. See Guangdong Chemicals Import & Export Corporation v. United States, Ct. No. 05-00023 Slip Op. 06-142 (September 18, 2006). Consistent with the decision of the United States Court of Appeals for the Federal Circuit in Timken Company v. United States and China National Machinery and Equipment Import and Export Corporation, 893 F. 2d 337 (Fed. Cir. 1990) (“Timken”), on October 4, 2006, the Department published a notice announcing that the CIT's decision was not in harmony with the Department's determination in the 2002-2003 administrative review of the antidumping duty order on sebacic acid from the PRC. No party appealed the CIT's decision. Therefore, there is now a final and conclusive court decision in this case.

Amended Final Results of Review

As the litigation in this case has concluded, the Department is amending the Final Results. The dumping margins in the amended final results of review are as follows:

Exporter/Manufacturer | Margin (percent)
Guangdong Chemicals Import and Export Corporation | 19.82

The PRC-wide rate continues to be 243.40 percent.

Assessment

The Department intends to issue assessment instruction to U.S. Customs and Border Protection 15 days after the date of publication of these amended final results of review.

This notice is issued and published in accordance with sections 751(a)(1) and 777(i)(1) of the Tariff Act of 1930, as amended.

Dated: December 8, 2006.
David M. Spooner,
Assistant Secretary for Import Administration.

[FR Doc. E6-21439 Filed 12-14-06; 8:45 am]

BILLING CODE 3510-DS-S